DEPARTMENT OF TRANSPORTATION

Federal Aviation Administration

14 CFR Part 71

[Docket No. FAA-2020-0187; Airspace Docket No. 19-ASO-27]

RIN 2120-AA66

Amendment and Removal of Air Traffic Service (ATS) Routes; Eastern United States

AGENCY: Federal Aviation Administration (FAA), DOT.

ACTION: Final rule.

SUMMARY: This action amends 6 jet routes, removes 4 jet routes, and removes 1 high altitude area navigation (RNAV) route in the eastern United States. This action is in support of the Northeast Corridor Atlantic Coast Route Project to improve the efficiency of the National Airspace System (NAS) and reduce dependency on ground-based navigational systems.

DATES: Effective date 0901 UTC, November 5, 2020. The Director of the Federal Register approves this incorporation by reference action under Title 1 Code of Federal Regulations part 51, subject to the annual revision of FAA Order 7400.11 and publication of conforming amendments.

ADDRESSES: FAA Order 7400.11D, Airspace Designations and Reporting Points, and subsequent amendments can be viewed online at https://www.faa.gov/air_traffic/publications/. For further information, you can contact the Rules and Regulations Group, Federal Aviation Administration, 800 Independence Avenue SW, Washington, DC 20591; telephone: (202) 267-8783. The Order is also available for inspection at the National Archives and Records Administration (NARA). For information on the availability of FAA Order 7400.11D at NARA, email: fedreg.legal@nara.gov or go to https://www.archives.gov/federal-register/cfr/ibr-locations.html.

FOR FURTHER INFORMATION CONTACT: Sean Hook, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would modify the route structure as necessary to preserve the safe and efficient flow of air traffic within the NAS.

History

The FAA published a notice of proposed rulemaking for Docket No. FAA-2020-0187 in the Federal Register (85 FR 16289; March 23, 2020), amending 9 jet routes, removing 22 jet routes and removing 1 high altitude RNAV route in the eastern United States in support of the Northeast Corridor Atlantic Coast Route Project. The NPRM proposed to amend the following existing routes: J-2, J-14, J-24, J-37, J-39, J-42, J-52, J-61, and J-68. In addition, the NPRM proposed to remove the following existing routes: J-55, J-62, J-79, J-109, J-121, J-150, J-165, J-174, J-191, J-193, J-207, J-209, J-222, J-225, J-230, J-506, J-561, J-563, J-570, J-573, J-582, J-585 and Q-108. Interested parties were invited to participate in this rulemaking effort by submitting written comments on the proposal. One comment was received expressing overall agreement with the proposal.

Jet routes are published in paragraph 2004; and United States Area Navigation Routes are published in paragraph 2006; of FAA Order 7400.11D dated August 8, 2019, and effective September 15, 2019, which is incorporated by reference in 14 CFR 71.1. The jet routes and RNAV route listed in this document would be subsequently amended in, or removed, respectively, from the Order.

Availability and Summary of Documents for Incorporation by Reference

This document amends FAA Order 7400.11D, Airspace Designations and Reporting Points, dated August 8, 2019, and effective September 15, 2019. FAA Order 7400.11D is publicly available as listed in the ADDRESSES section of this document. FAA Order 7400.11D lists Class A, B, C, D, and E airspace areas, air traffic service routes, and reporting points.

Differences From the Proposal

As the NPRM was published, the United States was undergoing the effects of the world-wide COVID-19 pandemic. The restrictions imposed to confront the pandemic impacted the ability of air traffic control facilities to conduct the required air traffic controller training to amend or remove these routes and the necessary administrative actions to decommission the NAVAIDs.

As a result, the FAA is limiting the scope of this rule to amending the following 6 jet routes: J-2, J-37, J-39, J-55, J-61, and J-121; and removing the 4 existing jet routes and 1 high altitude area navigation (RNAV) route: J-62, J-109, J-230, J-570, and Q-108. The descriptions of these routes are the same as proposed in the NPRM; however, in the original proposal the FAA was to remove J-55 and J-121; due to the impacts of COVID-19 the FAA will amend them as noted in this rule, thus retaining the air navigation services they provide. The remaining routes contained in the NPRM are removed from this rule and will be addressed by separate rulemaking action at a later date.

The J-37 route description information contained in “The Proposal” section and in the regulatory text of the NPRM contained an editorial error. Prior to publication of the NPRM, the FAA published a rule for Docket No. FAA-2018-0817 in the Federal Register (85 FR 3814, January 23, 2020) amending J-37 by removing the route segment between the Hobby, TX, VOR/DME and the Harvey, LA, VORTAC. The J-37 amendment, effective March 26, 2020, is included in this rule.

Additionally, in the NPRM for this rule, the eastern end point for the J-2 route was defined by the intersection of the Crestview, FL, 091° and the Seminole, FL, 290° radials. Subsequent to the NPRM, the Seminole, FL radial was replaced by the Montgomery, AL, 173° radial to define the intersection. This rule amends that point to read “the intersection of Crestview, FL, 091° and Montgomery, AL, 173° radials” (depicted on aeronautical charts as the DEFUN, FL, INT). Also, in the preamble of the NPRM, in describing J-61, the EDDYS, NC fix was incorrectly identified as the WETRO, NC waypoint. The correct reference is included in this rule.

The Rule

This action amends Title 14 Code of Federal Regulations (14 CFR) part 71 by amending 6 jet routes, removing 4 jet routes, and removing 1 high altitude area navigation (RNAV) route in the eastern United States. This action will support the Northeast Corridor Atlantic Coast Route Project by amending and removing certain jet route segments that are being replaced by RNAV routing. Additionally, the proposed jet route changes will reduce aeronautical chart clutter by removing unneeded route segments.

The jet route changes are as follows:

J-2: J-2 currently extends between the Mission Bay, CA, VORTAC, and the Taylor, FL, VORTAC. This action removes the segment of the route between the Seminole, FL, VORTAC and the Taylor, FL, VORTAC. As amended, J-2 extends between the Mission Bay VORTAC and intersection of the Crestview, FL, 091° and Montgomery, AL, 173° radials (depicted on aeronautical charts as the DEFUN, FL, INT).

J-37: J-37 currently consist of two separate segments: between the Harvey, LA, VORTAC and the Coyle, NJ, VORTAC; followed by a gap; and then between the Kennedy, NY, VOR/DME, and the Massena, NY, VORTAC. As amended, J-37 will extend in three separate segments: The Harvey, LA, VORTAC and the Montgomery, AL, VORTAC; the Lynchburg, VA, VOR/DME and the Coyle, NJ, VORTAC; and the Kennedy, NY, VOR/DME and the Albany, NY, VORTAC.

J-39: J-39 currently extends between the Crestview, FL, VORTAC, and the Rosewood, OH, VORTAC. This action will remove the portion of the route between the Crestview, FL and the Montgomery, AL, VORTAC. The amended route will extend between Montgomery, AL and Rosewood, OH.

J-55: J-55 currently extends in two parts: Between the Charleston, SC, VORTAC, and INT Hopewell, VA, 030° and Nottingham, MD, 174° radials; followed by a gap in the route, and resuming between the Sea Isle, NJ, VORTAC, and the Presque Isle, ME, VOR/DME. The amended route will extend in two parts: From INT Flat Rock, VA, 212° and Raleigh Durham, NC, 224° radials and INT Hopewell, VA, 030° and Nottingham, MD, 174° radials, and resuming from the Sea Isle, NJ, VORTAC, and the Presque Isle, ME, VOR/DME.

J-61: J-61 currently extends between the intersection of the Dixon, NC, NDB 023° and Nottingham, MD, VORTAC 174° radials (the EDDYS, NC fix), and the Philipsburg, PA, VORTAC. This action will remove the segment between the EDDYS fix, and the Nottingham VORTAC. The amended route will extend between the Westminster, MD, VORTAC, and the Philipsburg VORTAC.

J-62: J-62 currently extends between the Robbinsville, NJ, VORTAC, and INT Hopewell, VA, 030° and Nottingham, MD, 174° radials; followed by a gap in the route, and resuming between the Sea Isle, NJ, VORTAC, and the Presque Isle, ME, VOR/DME. The FAA will remove the entire route. Alternative routing is available via J-222 to J-79.

J-109: J-109 currently extends between the Wilmington, NC, VORTAC, and the Linden, VA, VORTAC. The FAA will delete the entire route.

J-121: J-121 currently extends between the Charleston, SC, VORTAC, and the Kennebunk, ME, VOR/DME. The amended route will extend between the Charleston, SC, VORTAC and INT Sea Isle, NJ, 050° and Cedar Lake, NJ, 091° radials.

J-230: J-230 currently extends between the Robbinsville, NJ, VORTAC, and the Bellaire, OH, VOR/DME. The FAA will delete the entire route.

J-570: J-570 currently extends between the Albany, NY, VORTAC, and the Mirabel, PQ, Canada, VOR/DME, excluding the portion outside of the United States. The FAA will delete the entire route.

In addition to the above jet route changes, the FAA proposes to remove one high altitude RNAV route as follows:

Q-108: Q-108 currently extends between the GADAY, FL, WP and the HKUNA, FL, fix. The FAA will delete the entire route.

FAA Order 7400.11, Airspace Designations and Reporting Points, is published yearly and effective on September 15.

Regulatory Notices and Analyses

The FAA has determined that this regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this proposed rule, when promulgated, does not have a significant economic impact on a substantial number of small entities under the criteria of the Regulatory Flexibility Act.

Environmental Review

The FAA has determined that this action of amending 6 jet routes, removing 4 jet routes, and removing 1 high altitude area navigation (RNAV) route in the eastern United States qualifies for categorical exclusion under the National Environmental Policy Act and its implementing regulations at 40 CFR part 1500, and in accordance with FAA Order 1050.1F, Environmental Impacts: Policies and Procedures, paragraph 5-6.5a, which categorically excludes from further environmental impact review rulemaking actions that designate or modify classes of airspace areas, airways, routes, and reporting points (see 14 CFR part 71, Designation of Class A, B, C, D, and E Airspace Areas; Air Traffic Service Routes; and Reporting Points). As such, this action is not expected to cause any potentially significant environmental impacts. In accordance with FAA Order 1050.1F, paragraph 5-2 regarding Extraordinary Circumstances, the FAA has reviewed this action for factors and circumstances in which a normally categorically excluded action may have a significant environmental impact requiring further analysis. The FAA has determined no extraordinary circumstances exist that warrant preparation of an environmental assessment or environmental impact study.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11D, Airspace Designations and Reporting Points, dated August 8, 2019, and effective September 15, 2019, is amended as follows:

Paragraph 2004 Jet Routes

* * * * *

J-2 [Amended]

From Mission Bay, CA; Imperial, CA; Bard, AZ; INT Bard 089° and Gila Bend, AZ, 261°radials; Gila Bend; Tucson, AZ; El Paso, TX; Fort Stockton, TX; Junction, TX; San Antonio, TX; Humble, TX; Lake Charles, LA; Fighting Tiger, LA; Semmes, AL; Crestview, FL; to INT Crestview, FL, 091° and Montgomery, AL, 173° radials.

* * * * *

J-37 [Amended]

From Harvey, LA; Semmes, AL; to Montgomery, AL. From Lynchburg, VA; Gordonsville, VA; Brooke, VA; INT Brooke 067° and Coyle, NJ, 226° radials; to Coyle. From Kennedy, NY; Kingston, NY; to Albany, NY.

* * * * *

J-39 [Amended]

From Montgomery, AL; Vulcan, AL, Nashville, TN; Louisville, KY, to Rosewood, OH.

* * * * *

J-55 [Amended]

From INT Flat Rock, VA, 212° and Raleigh-Durham, NC, 224° radials; Raleigh-Durham; INT Raleigh-Durham 035° and Hopewell, VA, 234° radials; Hopewell; INT Hopewell 030° and Nottingham, MD, 174° radials. From Sea Isle, NJ; INT Sea Isle 050°and Hampton, NY, 223° radials; Hampton; Providence, RI; Boston, MA; Kennebunk, ME; to Presque Isle, ME.

* * * * *

J-61 [Amended]

From Westminster, MD; to Philipsburg, PA.

* * * * *

J-62 [Remove]

* * * * *

J-109 [Remove]

* * * * *

J-121 [Amended]

From Charleston, SC; Kinston, NC; Norfolk, VA; INT Norfolk 023° and Snow Hill, MD, 211° radials; Snow Hill; Sea Isle, NJ; INT Sea Isle, NJ 050° and Cedar Lake, NJ 091° radials.

* * * * *

J-230 [Remove]

* * * * *

J-570 [Remove]

* * * * *

Paragraph 2006 United States Area Navigation Routes

* * * * *

Q-108 [Remove]

* * * * *

Issued in Washington, DC, on August 26, 2020.
Scott M. Rosenbloom,
Acting Manager, Rules and Regulations Group.

[FR Doc. 2020-19082 Filed 8-31-20; 8:45 am]

BILLING CODE 4910-13-P